DEPARTMENT OF HEALTH AND HUMAN SERVICES

Centers for Disease Control and Prevention

[60Day-20-20NK; Docket No. CDC-2020-0094]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies to take this opportunity to comment on proposed and/or continuing information collection, as required by the Paperwork Reduction Act of 1995. This notice invites comment on a proposed information collection project titled NCHS Research and Development Survey (RANDS). RANDS will leverage commercially-created and maintained survey panels to supplement and expand NCHS' methodological research, allowing NCHS to quickly obtain and disseminate information about the ongoing coronavirus outbreak and provide documentation supporting the validity of outbreak-related survey questions.

DATES: Written comments must be received on or before October 19, 2020.

ADDRESSES: You may submit comments, identified by Docket No. CDC-2020-0094 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Research and Development Survey (RANDS) COVID19 Data Collection—New—National Center for Health Statistics (NCHS), Centers for Disease Control and Prevention's (CDC)

Background and Brief Description

The National Center for Health Statistics (NCHS) requests approval for a new six-month OMB Emergency Clearance for Research and Development Survey (RANDS) COVID19 Data Collection. Since COVID-19 has resulted in a public health crisis, data related to the pandemic is needed in an expedited manner.

This information collection request encompasses two separate, but related information collections. First, a two-round methodological survey (RANDS-COVID-19) using NORC's AmeriSpeak Panel and TrueNorth supplemental panel, and second, a set of cognitive interviews that will be used to validate the items on the RANDS-COVID-19 questionnaire. While NCHS would prefer to conduct iterative rounds of cognitive interviews prior to the fielding of the RANDS-COVID-19 questionnaire, given both the limitations of the current testing environment due to social distancing and the public health need for the RANDS-COVID-19 data itself, NCHS will be unable to follow its typical workflow. Instead, the cognitive interviewing project proposed here will function as a validity study so that NCHS staff and other subject matter experts can understand the constructs of the questions as they analyze, interpret, and disseminate the RANDS-COVID-19 data.

The purpose of both activities will include a research component, and will also contribute to CDC's ongoing surveillance of the COVID-19 pandemic. Given the current outbreak and the resulting limitations placed on NCHS' other data collections, RANDS will provide NCHS and CDC with early estimates of COVID-19-related concepts. The questionnaire will cover areas such as general health, psychological distress, chronic conditions, health behaviors, testing and treatment for COVID-19, the outbreak's effects on healthcare access, and how individuals are modifying their behaviors due to the epidemic. Estimated burden for this one-time information collection is 7,447 hours.

Estimated Annualized Burden Table
Types of respondent | Form name | Number of respondents | Number of responses per respondent | Average burden per response (in hr) | Total burden (in hr)
Individuals or households | RANDS-COVID-19 Round 1 | 12,000 | 1 | 20/60 | 4,000
Individuals or households | RANDS-COVID-19 Round 2 | 10,000 | 1 | 20/60 | 3,334
Individuals or households | Screener (recruited from newspaper/flyer) | 150 | 1 | 5/60 | 13
Individuals or households | Questionnaire | 100 | 1 | 55/60 | 92
Individuals or households | Respondent Data Collection Sheet | 100 | 1 | 5/60 | 8
Total |  |  |  |  | 7,447

Jeffrey M. Zirger,
Lead, Information Collection Review Office, Office of Scientific Integrity, Office of Science, Centers for Disease Control and Prevention.

[FR Doc. 2020-18279 Filed 8-19-20; 8:45 am]

BILLING CODE 4163-18-P